DEPARTMENT OF THE INTERIOR

Bureau of Reclamation

Central Valley Project Improvement Act, Criteria for Evaluating Water Conservation Plans

AGENCY: Bureau of Reclamation, Interior.

ACTION: Notice.

SUMMARY: To meet the requirements of the Central Valley Project Improvement Act of 1992 (CVPIA) and the Reclamation Reform Act of 1982, the Bureau of Reclamation (Reclamation) developed and published the Criteria for Evaluating Water Management Plans (Criteria). Note: For the purpose of this announcement, Water Management Plans are considered the same as Water Conservation Plans (Plans). The CVPIA requires Reclamation to evaluate, and revise if necessary, the Criteria every 3 years. Reclamation is publishing this notice to allow the public to comment on the revised 2005 draft Criteria. Public comment on the revised Criteria is invited at this time. The draft revision is available for review and comment. A copy of the draft revision can be found at the following Web site: http://www.usbr.gov/mp/watershare/documents/2005DraftCriteria.pdf.

A copy of the draft revision can be obtained by contacting persons at the address below. After the review period, if no significant changes are made based on comments from the public, the Criteria will be final. After the Criteria is final, it will be used to evaluate Plans.

DATES: All public comments must be received by September 30, 2005.

ADDRESSES: Please mail comments to Jerry Townsend, Bureau of Reclamation, 2800 Cottage Way, Sacramento, California 95825, or contact at 916-978-5223 (TDD 978-5608), or e-mail at gtownsend@mp.usbr.gov.

FOR FURTHER INFORMATION CONTACT: To be placed on a mailing list for any subsequent information, please contact Leslie Barbre or Jerry Townsend at the e-mail address or telephone number above.

SUPPLEMENTARY INFORMATION: We are inviting the public to comment on the revision of the Criteria. Section 3405(e) of the CVPIA (Title 34 Pub. L. 102-575), requires the “Secretary of the Interior to establish and administer an office on Central Valley Project water conservation best management practices that shall * * * develop Criteria for evaluating the adequacy of all water conservation plans developed by project contractors, including those Plans required by Section 210 of the Reclamation Reform Act of 1982.” Also, according to Section 3405(e)(1), these Criteria must be developed “* * * with the purpose of promoting the highest level of water use efficiency reasonably achievable by project contractors using best available cost-effective technology and best management practices.” The Criteria have the following applicability statements:

Who Must Use These Criteria. These Criteria apply to Plans submitted to Reclamation as required by applicable Central Valley Project water delivery contract or any contract that specifically invokes these Criteria.

Exceptions. The following are excepted from the requirement to prepare a Plan using these Criteria:

• All Contractors that receive only irrigation water from any Federal Reclamation project, and deliver said water to less than 2,000 acres of land.

• All Contractors that receive only municipal and industrial (urban) water from any Federal Reclamation project, and provide said water to less than 3,300 people.

• All Contractors that receive a combination of irrigation and urban water amounting to less than an annual average of 2,000 acre-feet from any Federal Reclamation project.

Reclamation will evaluate Plans based on these Criteria. The CVPIA requires Reclamation to evaluate, and revise if necessary, the Criteria every 3 years. The Criteria were previously revised in 1996, 1999, and 2002.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety. For copies contact Leslie Barbre, Bureau of Reclamation, 2800 Cottage Way, Sacramento, California 95825, or contact at 916-978-5232 (TDD 978-5608), or e-mail at lbarbre@mp.usbr.gov.

Dated: July 25, 2005.
Donna E. Tegelman,
Regional Resources Manager.

[FR Doc. 05-16818 Filed 8-23-05; 8:45 am]

BILLING CODE 4210-MN-P